DEPARTMENT OF STATE

22 CFR Part 126

General Policies and Provisions

CFR Correction

In Title 22 of the Code of Federal Regulations, parts 1 to 299, on page 466, first column, § 126.1(a) is corrected by removing “Ukraine” from the second sentence.

[FR Doc. 00-55521 Filed 12-26-00; 8:45 am]

BILLING CODE 1505-01-D